NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (#1171).

Date/Time: November 15, 2012; 8:00 a.m. to 5:00 p.m.

Place: National Science Foundation, 4201 Wilson Boulevard, Stafford I, Room 1235, Arlington, VA 22230.

Type of Meeting: Open.

Contact Person: Ms. Lisa Jones, Office of the Assistant Director, Directorate for Social, Behavioral and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate programs and activities.

Agenda:

Updates and discussions on continuing activities

• Directorate Update: Dr. Myron Gutmann

• NSF and Government Wide Initiatives: How can the Advisory Committee help?

• Public Access: Background on Access to Scientific Publication and Data

• SBE Advisory Committee Activities (Overview & Discussion)

• New and Recent Competitions

• Agenda for Future Meeting, Assignments, Concluding Remarks

Dated: October 9, 2012.
Susanne Bolton,
Committee Management Officer.

[FR Doc. 2012-25147 Filed 10-12-12; 8:45 am]

BILLING CODE 7555-01-P